DEPARTMENT OF HEALTH AND HUMAN SERVICES

Centers for Disease Control and Prevention

[Program Announcement DP05-130]

Epidemiologic Study of Inflammatory Bowel Disease; Notice of Intent To Fund Single Eligibility Award

A. Purpose

The Centers for Disease Control and Prevention (CDC) announces the intent to fund fiscal year (FY) 2005 funds for a cooperative agreement program to expand on preliminary findings of Inflammatory Bowel Disease (IBD) in the United States and enhance our understanding of the demographic and clinical characteristics of IBD, variations in clinical practice, and the impact of the disease. This announcement will build on a previous epidemiologic study of the disease and be used to target interventions for groups at high risk for IBD and inform best clinical practices.

The Catalog of Federal Domestic Assistance number for this program is 93.945.

B. Eligible Applicant

Assistance will be provided only to the Crohn's and Colitis Foundation of America.

The Crohn's and Colitis Foundation of America is the only institution eligible to submit an application in response to this RFA. The CCFA was referenced by the House and Senate in their Labor/Health and Human Services/Education (L/HHS/Ed) Committee Reports. The House language states: “For the past five years, the Committee has encouraged CDC to work in partnership with the IBD community to establish a national IBD epidemiology program to further our understanding of these diseases. The Committee understands that the Crohn's and Colitis Foundation of America has provided financial support through the CDC Foundation to initiate this important program. Now that the project is established, the Committee encourages CDC to contribute to the project in order to expand the work in FY2005.” The Senate language states: “An epidemiological study of IBD is needed to gain a better understanding of the prevalence of IBD in the United States and the demographic characteristics of the IBD patient population. Over the last 3 years, the Crohn's and Colitis Foundation of America has provided the CDC with $750,000 to initiate the epidemiological study. Now that the project has been established through an investment by the patient community, the Committee has provided $800,000 to continue this study.” The Conference Committee recommended a total of $750,000.

The CCFA is a not-for-profit 501 (c)(03) organization, founded in 1967 “to cure and prevent Crohn's disease and ulcerative colitis through research, and to improve the quality of life of children and adults affected by these digestive disease through education and support”. Since 1967, CCFA has established itself as the leading agency in the country on IBD research. It has led the efforts in identifying the research needs and developing successful strategies to meet those needs. CCFA has a national scientific advisory committee comprised of nationally renowned physicians and scientists in the field of inflammatory bowel disease. This advisory committee is the only one of its kind in the country dedicated solely to identifying and supporting emerging areas of research that could lead to the understanding of the causes and disease course of IBD. Through this scientific advisory committee and other partnerships, CCFA has developed several major initiatives to advance IBD research.

For the past three years, the CCFA scientific advisory committee has worked with the CDC to establish the informational infrastructure needed to conduct IBD research. They have built a validated disease algorithm for identifying patients with IBD and estimating the prevalence of the disease. Only CCFA has access to these algorithms and the informational infrastructure. CCFA will use the algorithms and infrastructure created, to further describe the prevalence and incidence of IBD and the impact of various clinical practices on outcomes.

The mission of CCFA, the organization's extensive network of resources, and the existing collaborative efforts with the CDC make it highly probable that CCFA will successfully achieve the activities identified in Section 1 of this RFA. CCFA is the only not-for-profit national IBD organization that promotes and provides funding for much needed IBD research. This characteristic of CCFA is unmatched by any other public or private IBD specific organization currently conducting similar activities in the United States.

The CCFA has partnered with the CDC in the establishment and initiation of this study; therefore, it is the only eligible organization to collaborate in the completion of this study.

C. Funding

Approximately $700,000 is available in FY 2005 to fund this award. It is expected that the award will begin on or before August 31, 2005, and will be made for a 12-month budget period within a project period of up to five years. Funding estimates may change.

D. Where To Obtain Additional Information

For general comments or questions about this announcement, contact: Technical Information Management, CDC Procurement and Grants Office, 2920 Brandywine Road, Atlanta, GA 30341-4146, telephone: 770-488-2700.

For technical questions about this program, contact: Brenda Colley Gilbert, Project Officer, 4770 Buford Highway N.E., Mailstop K-92, Atlanta, GA 30341, telephone: 770-488-8390, e-mail: BColleyGilbert@cdc.gov.

Dated: August 10, 2005.
Alan A. Kotch,
Deputy Director, Procurement and Grants Office, Centers for Disease Control and Prevention.

[FR Doc. 05-16172 Filed 8-15-05; 8:45 am]

BILLING CODE 4163-18-P